DEPARTMENT OF HEALTH AND HUMAN SERVICES

Administration for Children and Families

Proposed Information Collection Activity; Comment Request

Title: State Plan for Grants to States for Refugee Resettlement.

OMB No.: 0970-0351.

Description: A State Plan is required by 8 U.S.C. 1522 of the Immigration and Nationality Act (the Act) [Title IV, Sec. 412 of the Act] for each State agency requesting Federal funding for refugee resettlement under 8 U.S.C. 524 [Title IV, Sec. 414 of the Act], including Refugee Cash and Medical Assistance, Unaccompanied Minor Refugee Program, Refugee Social Services, and Targeted Assistance program funding. The State Plan is a comprehensive narrative description of the nature and scope of a States programs and provides assurances that the programs will be administered in conformity with the specific requirements stipulated in 45 CFR 400.4-400.9. The State Plan must include all applicable State procedures, designations, and certifications for each requirement as well as supporting documentation.

The plan assures ORR that the State is capable of administering refugee assistance and coordinating employment and other social services for eligible caseloads in conformity with specific requirements. ORR proposes organizational and formatting changes to make the checklist more accessible to the user. Additionally, ORR proposes streamlining language to make the checklist easier to read. These proposed changes include technical corrections to regulatory citations. ORR proposes removing a number of requirements, including an assurance regarding the inclusion of refugee resettlement programs in pandemic influenza emergency plans and a basic description of providers conducting medical screening. ORR proposes to remove a requirement that all states describe a plan for the care, supervision of, and legal responsibility for, refugee children who become unaccompanied in the state. ORR also proposes to remove requirements specific to the Cuban/Haitian entrants and replace them with an assurance that states will provide all ORR-eligible populations with the benefits and services described in the State Plan.

ORR proposes adding language to clarify the following requirements related to the Unaccompanied Refugee Minors (URM) program: State policy on education and training vouchers, medical coverage, the location of URM providers, monitoring procedures, the process for establishing legal responsibility, and information about sub-contractors.

States must use a pre-print format for required components of State Plans for ORR- funded refugee resettlement services and benefits prepared by the Office of Refugee Resettlement (ORR) of the Administration for Children and Families (ACF).

States must submit by August 15 each year new or amended State Plan for the next Federal fiscal year. For previously approved plan, States must certify no later than October 31 each year that the approved State plan is current and continues in effect.

Respondents: State Agencies, Replacement Designees under 45 CFR 400.301(c), and Wilson-Fish Grantees (State 2 Agencies) administering or supervising the administration of programs under Title IV of the Act.

Annual Burden Estimates
Instrument | Number of respondents | Number of responses per respondent | Average burden hours per response | Total burden hours
Title IV State Plan | 55 | 1 | 15 | 750

Estimated Total Annual Burden Hours: 750.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW., Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2017-13033 Filed 6-21-17; 8:45 am]

BILLING CODE 4184-01-P